DEPARTMENT OF COMMERCE

National Oceanic and Atmospheric Administration

RIN 0648-XC041

Pacific Fishery Management Council; Public Meeting

AGENCY: National Marine Fisheries Service (NMFS), National Oceanic and Atmospheric Administration (NOAA), Commerce.

ACTION: Notice of public meetings.

SUMMARY: The Pacific Fishery Management Council (Pacific Council) and its advisory entities will hold public meetings.

DATES: The Pacific Council and its advisory entities will meet June 20-26, 2012. The Pacific Council meeting will begin on Thursday, June 21, 2012 at 8 a.m., reconvening each day through Tuesday, June 26, 2012. All meetings are open to the public, except a closed session will be held at the end of business on Thursday, June 21 to address litigation and personnel matters. The Pacific Council will meet as late as necessary each day to complete its scheduled business.

ADDRESSES: The meetings will be held at the San Mateo Marriott Hotel, 1770 South Amphlett Boulevard, San Mateo, CA; telephone: (650) 653-6000.

Council address: Pacific Fishery Management Council, 7700 NE Ambassador Place, Suite 101, Portland, OR 97220.

FOR FURTHER INFORMATION CONTACT: Dr. Donald O. McIsaac, Executive Director; telephone: (503) 820-2280 or (866) 806-7204 toll free; or access the Pacific Council Web site, http://www.pcouncil.org for the current meeting location, proposed agenda, and meeting briefing materials.

SUPPLEMENTARY INFORMATION: The following items are on the Pacific Council agenda, but not necessarily in this order:

A. Call to Order

1. Opening Remarks

2. Roll Call

3. Executive Director's Report

4. Approve Agenda

B. Open Comment Period

Comments on Non-Agenda Items

C. Habitat

Current Habitat Issues

D. Groundfish Management

1. NMFS Report

2. Barotrauma Workshop and Potential Use of Recompression Catch-and-Release Survival Estimates

3. Stocks Assessment Planning

4. Final Recommendations for Exempted Fishing Permits for 2013-14 Fisheries

5. Tentative Adoption of Final 2013-14 Biennial Harvest Specifications and Management Measures

6. Trawl Rationalization Trailing Actions

7. Reconsideration of Initial Catch Shares in the Mothership and Shoreside Pacific Whiting Fisheries

8. Consideration of Inseason Adjustments

9. Final 2013-14 Biennial Harvest Specifications and Management Measures

E. Highly Migratory Species Management

1. Management Reference Points and Measures for 2013-14 Fisheries

2. International Management Activities and Recommendations

F. Coastal Pelagic Species Management

1. NMFS Report

2. Pacific Mackerel Management for 2012-13

G. Administrative Matters

1. Consideration of Further Protection of Currently Unmanaged Forage Species

2. Legislative Matters

3. Advance Notice of Proposed Rulemaking for National Standard 1 Guidelines

4. Approval of Council Meeting Minutes

5. Fiscal Matters

6. Membership Appointments and Council Operating Procedures

7. Future Council Meeting Agenda and Workload Planning

H. Ecosystem Based Management

Council Fishery Ecosystem Plan Development

I. Enforcement Issues

Annual NMFS Enforcement Report

Schedule of Ancillary Meetings
|  | Presenter or requester
Day 1—Wednesday, June 20, 2012
Groundfish Advisory Subpanel | 8 a.m.
Groundfish Management Team | 8 a.m.
Highly Migratory Species Advisory Subpanel | 8 a.m.
Highly Migratory Species Management Team | 8 a.m.
Scientific and Statistical Committee | 8 a.m.
Budget Committee | 1 p.m.
Legislative Committee | 2:30 p.m.
Day 2—Thursday, June 21, 2012
California State Delegation | 7 a.m.
Oregon State Delegation | 7 a.m.
Washington State Delegation | 7 a.m.
Joint Meeting of the Coastal Pelagic Species Advisory Subpanel and Coastal Pelagic Species Management Team | 8 a.m.
Groundfish Advisory Subpanel | 8 a.m.
Groundfish Management Team | 8 a.m.
Highly Migratory Species Advisory Subpanel | 8 a.m.
Highly Migratory Species Management Team | 8 a.m.
Scientific and Statistical Committee | 8 a.m.
Enforcement Consultants | 4:30 p.m.
Chair's Reception | 6 p.m.
Day 3—Friday, June 22, 2012
California State Delegation | 7 a.m.
Oregon State Delegation | 7 a.m.
Washington State Delegation | 7 a.m.
Coastal Pelagic Species Advisory Subpanel | 8 a.m.
Coastal Pelagic Species Management Team | 8 a.m.
Ecosystem Advisory Subpanel | 8 a.m.
Groundfish Advisory Subpanel | 8 a.m.
Groundfish Management Team | 8 a.m.
Enforcement Consultants | As Needed.
Day 4—Saturday, June 23, 2012
California State Delegation | 7 a.m.
Oregon State Delegation | 7 a.m.
Washington State Delegation | 7 a.m.
Ecosystem Advisory Subpanel | 8 a.m.
Groundfish Advisory Subpanel | 8 a.m.
Groundfish Management Team | 8 a.m.
Enforcement Consultants | As Needed.
Day 5—Sunday, June 24, 2012
California State Delegation | 7 a.m.
Oregon State Delegation | 7 a.m.
Washington State Delegation | 7 a.m.
Groundfish Advisory Subpanel | 8 a.m.
Groundfish Management Team | 8 a.m.
Enforcement Consultants | As Needed.
Day 6—Monday, June 25, 2012
California State Delegation | 7 a.m.
Oregon State Delegation | 7 a.m.
Washington State Delegation | 7 a.m.
Groundfish Advisory Subpanel | 8 a.m.
Groundfish Management Team | 8 a.m.
Enforcement Consultants | As Needed.
Day 7—Tuesday, June 26, 2012
California State Delegation | 7 a.m.
Oregon State Delegation | 7 a.m.
Washington State Delegation | 7 a.m.

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: May 22, 2012.
Tracey L. Thompson,
Acting Director, Office of Sustainable Fisheries, National Marine Fisheries Service.

[FR Doc. 2012-12728 Filed 5-24-12; 8:45 am]

BILLING CODE 3510-22-P